FEDERAL MARITIME COMMISSION

Sunshine Act Meeting

TIME AND DATE: December 3, 2018; 10 a.m.

PLACE: 800 N. Capitol Street NW, Washington, DC.

STATUS: This meeting will be closed to the public.

MATTERS TO BE CONSIDERED:

Closed Session

1. Fact Finding No. 28—Final Report—Briefing by Commissioner Rebecca F. Dye.

CONTACT PERSON FOR MORE INFORMATION: Rachel Dickon, Secretary, (202) 523-5725.

Rachel Dickon,
Secretary.

[FR Doc. 2018-25814 Filed 11-21-18; 4:15 pm]

BILLING CODE 6731-AA-P